DEPARTMENT OF HEALTH AND HUMAN SERVICES

Administration for Children and Families

Submission for OMB Review; Comment Request

Title: U.S. Repatriation Program Forms.

OMB No.: 0970-0474.

Description: The United States (U.S.) Repatriation Program was established by Title XI, Section 1113 of the Social Security Act (Assistance for U.S. Citizens Returned from Foreign Countries) to provide temporary assistance to U.S. citizens and their dependents who have been identified by the Department of State (DOS) as having returned, or been brought from a foreign country to the U.S. because of destitution, illness, war, threat of war, or a similar crisis, and are without available resources immediately accessible to meet their needs. The Secretary of the Department of Health and Human Services (HHS) was provided with the authority to administer this Program. On or about 1994, this authority was delegated by the HHS Secretary to the Administration for Children and Families (ACF) and later re-delegated by ACF to the Office of Human Services Emergency Preparedness and Response (OHSEPR). The Repatriation Program works with States, Federal agencies, and non-governmental organizations to provide eligible individuals with temporary assistance for up to 90 days. This assistance is in the form of a loan and must be repaid to the Federal Government.

The Program was later expanded in response to legislation enacted by Congress to address the particular needs of persons with mental illness (24 U.S.C. Sections 321 through 329). Further refinements occurred in response to Executive Order (E.O.) 11490 (as amended) where HHS was given the responsibility to “develop plans and procedures for assistance at ports of entry to U.S. personnel evacuated from overseas areas, their onward movement to final destination, and follow-up assistance after arrival at final destination.” In addition, under E.O. 12656 (53 CFR 47491), “Assignment of emergency preparedness responsibilities,” HHS was given the lead responsibility to develop plans and procedures to provide assistance to U.S. citizens and others evacuated from overseas.

In order to effectively and efficiently manage these legislative authorities, the Program has been divided into two major activities, Emergency and Non-Emergency Repatriation. Operationally, these two Program activities involve different kinds of preparation, resources, and implementation. However, the core Program statute, regulations, policies, and administrative procedures for these two Programs are essentially the same. The ongoing routine arrivals of individual repatriates and the repatriation of individuals with mental illness constitute the Program Non-emergency activities. Emergency Activities are characterized by contingency events such as civil unrest, war, threat of war or similar crisis, among other incidents. Depending on the type of event, number of evacuees and resources available, ACF will provide assistance using two scalable mechanisms, emergency repatriations or group repatriations. Emergency repatriations assume the evacuation of 500 or more individuals, while group repatriations assume the evacuation of 50-500 individuals.

The Program provides services through agreements with the States, U.S. Territories, Federal agencies, and non-governmental agencies. The list of Repatriation Forms is as follows:

1. Emergency and Group Processing Form (RR-01): During an emergency repatriation, individuals complete portions of this form to apply for repatriation assistance. Then State personnel use the form to perform a preliminary eligibility assessment. Authorized ACF staff make final eligibility decisions.

2. Emergency and Group Repatriation Financial Form (RR-02): States and supporting agencies complete this form if they have entered into an agreement with OHSEPR allowing for reimbursement of reasonable and allowable costs during emergency repatriation activities.

3. Repatriation Loan Waiver and Deferral Request Form (RR-03): Eligible repatriates, authorized legal custodians, or authorized state staff complete this form to request a waiver or deferral of a repatriation loan.

4. Non-Emergency Monthly Financial Statement Form (RR-04): States and other authorized OHSEPR agencies use this form to request reimbursement of reasonable and allowable costs for the provision of temporary assistance during non-emergency activities.

5. Privacy and Repayment Agreement Form (RR-05): This form authorizes HHS to release personally identifiable information to appropriate agencies for the purpose of providing services. In addition, through this form, eligible repatriates or authorized legal custodians agree to accept services under the Program's terms and conditions, which include repaying the federal government for services received.

6. Refusal of Temporary Assistance Form (RR-06): Eligible repatriates or authorized legal custodians use this form to confirm and record their decision to relinquish repatriation services.

7. Temporary Assistance and Extension Request Form (RR-07): To request an extension of assistance beyond the 90-day eligibility period, eligible repatriates, authorized legal custodians, or authorized state staff submit this form to OHSEPR or its designated grantee generally 14 days prior to the expiration of the repatriate's eligibility period.

8. Emergency and Group Repatriation State Request for Federal Support Form (RR-08): During emergency repatriation activities, OHSEPR-activated states must use this form to request support and/or assistance from the federal government, including but not limited to augmentation of personnel, funding, and reimbursement.

Respondents: Designated state, federal, and/or non-governmental agencies and individuals and eligible repatriates. Responders are authorized by 42 U.S.C. 1313 and 24 U.S.C. 321-329; Executive Order 12656 (as amended by E.O. 13074, February 9, 1998; E.O. 13228, October 8, 2001; E.O. 13286, February 28, 2003); and regulations found under 45 CFR 211 & 212.

Annual Burden Estimates
Form | Number of respondents | Frequency of the response | Average burden hours per response | Total annual burden hours
Emergency and Group Processing Form | 25,000 | 1 | 0.30 | 7,500
Privacy and Repayment Agreement Form | 25,000 | 1 | 0.05 | 1,250
Refusal of Temporary Assistance Form | 15 | 1 | 0.05 | 0.75
Emergency and Group Repatriation Financial Form | 15 | 1 | 0.30 | 4.5
Non-Emergency Monthly Financial Statement Form | 52 | 12 | 0.30 | 187
Repatriation Loan Waiver and Deferral Request Form | 800 | 1 | 0.30 | 240
Emergency and Group Repatriation State Request for Federal Support Form | 20 | 1 | 0.30 | 6
Temporary Assistance and Extension Request Form | 50 | 1 | 0.30 | 15
Estimated Total Annual Burden Hours: 9203.25.

Additional Information: Copies of the proposed collection may be obtained by writing to the Administration for Children and Families, Office of Planning, Research and Evaluation, 330 C St. SW, Washington, DC 20201, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV.

Attn: Desk Officer for the Administration for Children and Families.

Mary B. Jones,
ACF/OPRE Certifying Officer.

[FR Doc. 2019-06059 Filed 3-28-19; 8:45 am]

BILLING CODE 4184-01-P